DEPARTMENT OF HOMELAND SECURITY

Coast Guard

[USCG-2014-0941]

Port Access Route Study: In the Chukchi Sea, Bering Strait and Bering Sea

AGENCY: Coast Guard, DHS.

ACTION: Notice of public meeting.

SUMMARY: The Coast Guard announces three public meetings to receive comments on a port access route study (PARS) published in the Federal Register on December 5, 2014, under the title “Port Access Route Study: In the Chukchi Sea, Bering Strait and Bering Sea.” The goal of this study is to help reduce the risk of marine casualties and increase the efficiency of vessel traffic in the region. The recommendations of the study may lead to future rulemaking action or appropriate international agreements.

DATES: The first meeting will be held in Juneau, Alaska on March 9, 2015 from 2 p.m. to 7 p.m. The second meeting will be held in Anchorage, Alaska on March 30, 2015 from 12 p.m. to 6 p.m. The third and final meeting will be held in Nome, Alaska on April 2, 2015 from 3 p.m. to 6 p.m.

ADDRESSES: Meeting Locations: Juneau Meeting: Elizabeth Peratrovich Event Center located at 320 W. Wiloughby Ave, Juneau, AK 99801; Anchorage Meeting: Hotel Captain Cook located at 939 West 5th Ave., Anchorage, AK 99501; Nome Meeting: City Of Nome Council Chambers located at 102 Division St, Nome, AK 99762.

Comment submission: You may submit comments associated with docket number USCG-2014-0941 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is 202-366-9329.

To avoid duplication, please use only one of these four methods.

FOR FURTHER INFORMATION CONTACT: If you have questions on this notice of study or any of the meetings, call or email LT Kody Stitz, Seventeenth Coast Guard District (dpw); telephone (907) 463-2270; email Kody.J.Stitz@uscg.mil or Mr. David Seris, Seventeenth Coast Guard District (dpw); telephone (907) 463-2267; email David.M.Seris@uscg.mil. If you have questions on viewing or submitting material to the docket, call Cheryl F. Collins, Program Manager, Docket Operations, telephone 202-366-9826.

SUPPLEMENTARY INFORMATION:

Public Participation and Request for Comments

We encourage you to participate in this study by submitting comments and related materials as well as attending a public meeting. All comments received will be posted without change to http://www.regulations.gov and will include any personal information you have provided.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Requirement for Port Access Route Studies

Under the Ports and Waterways Safety Act (PWSA) (33 U.S.C. 1223(c)), the Commandant of the Coast Guard may designate necessary fairways and traffic separation schemes (TSSs) to provide safe access routes for vessels proceeding to and from U.S. ports.

Schematic of proposed vessel routing system: A chart showing the Coast Guard's proposed two-way route can be downloaded from http://www.regulations.gov, type “USCG-2014-0941” into the search bar and click search, next to the displayed search results click “Open Docket Folder”, which will display all comments and documents associated with this docket.

Information on Service for Individuals With Disabilities

For information on facilities or services for individuals with disabilities or to request special assistance at the public meeting, contact LT Kody Stitz at the telephone number or email address provided under the FOR FURTHER INFORMATION CONTACT section of this document.

Meeting Details

All meetings are open to the public. The purpose of the meetings is to increase awareness of the PARS and to receive feedback and comments from the public regarding the PARS. Each meeting will begin with the Coast Guard meeting facilitator presenting an explanation of and the purpose for the PARS along with an overview of the Coast Guard's proposed two-way route through the region. Public participants will then be able to provide comments and feedback to the meeting facilitator. Public participants are not required to stay for the entire meeting duration as the process of the meeting facilitator presenting the PARS information followed by a public comment period will be repeated hourly throughout the allotted meeting time.

Copies of the PARS announced in the Federal Register on December 5, 2014 as well as the schematic showing the two-way route will be available at the public meeting. The meeting facilitator will accept written comments from participants who wish to comment in writing. All written comments received by the meeting facilitator will be uploaded to the PARS docket (USCG-2014-0941) without change. Comments made verbally will be summarized by the meeting facilitator and incorporated into the study. The public comment period closes on June 3, 2015 and comments may be submitted up until that time using one of the methods detailed under the COMMENT SUBMISSION section of this document. The Coast Guard will not make any decisions at the meetings and will only begin analyzing the comments and information received after the public comment period closes on June 3, 2015.

D.B. Abel,
Rear Admiral, U.S. Coast Guard, Commander, Seventeenth Coast Guard District.

[FR Doc. 2015-03859 Filed 2-24-15; 8:45 am]

BILLING CODE 9110-04-P